DEPARTMENT OF COMMERCE

Office of the Secretary

Notice of an Opportunity To Serve on the Innovation Advisory Board Advising the Department of Commerce in the Development of a Study on the Economic Competitiveness and Innovative Capacity of the United States

AGENCY: Office of the Secretary, U.S. Department of Commerce.

ACTION: Notice.

SUMMARY: The Department of Commerce is inviting expressions of interest to service on the Innovation Advisory Board from individuals with interest in advising the Department of Commerce as it develops a study on the economic competitiveness and innovative capacity of the United States. The Department is particularly interested in businesses leaders, economic or innovation policy experts, and State and local government officials active in technology-based economic development.

DATES: All information must be received by the Office of the Secretary at the e-mail or postal address below by close of business (EDT) on March 22, 2011.

ADDRESSES: Please submit relevant information via e-mail to InnovationAB@doc.gov or by mail to John Connor, Office of the Secretary, U.S. Department of Commerce, Room 5835, 1401 Constitution Avenue, NW., Washington, DC 20230.

SUPPLEMENTARY INFORMATION:

Background

The America COMPETES Reauthorization Act of 2010 (COMPETES) was signed into law on January 4, 2011. Section 604 of that Act requires that the Secretary of Commerce complete a comprehensive study of the economic competitiveness and innovative capacity of the United States by January 4, 2012. This study is to be conducted in consultation with the National Economic Council, Federal agencies as the Secretary considers appropriate, and an Innovation Advisory Board.

COMPETES directs that the study shall include the following:

(A) An analysis of the United States economy and innovation infrastructure.

(B) An assessment of the following:

(i) The current competitive and innovation performance of the United States economy relative to other countries that compete economically with the United States.

(ii) Economic competitiveness and domestic innovation in the current business climate, including tax and Federal regulatory policy.

(iii) The business climate of the United States and those of other countries that compete economically with the United States.

(iv) Regional issues that influence the economic competitiveness and innovation capacity of the United States, including—

(I) the roles of State and local governments and institutions of higher education; and

(II) regional factors that contribute positively to innovation.

(v) The effectiveness of the Federal Government in supporting and promoting economic competitiveness and innovation, including any duplicative efforts of, or gaps in coverage between, Federal agencies and departments.

(vi) Barriers to competitiveness in newly emerging business or technology sectors, factors influencing underperforming economic sectors, unique issues facing small and medium enterprises, and barriers to the development and evolution of start-ups, firms, and industries.

(vii) The effects of domestic and international trade policy on the competitiveness of the United States and the United States economy.

(viii) United States export promotion and export finance programs relative to export promotion and export finance programs of other countries that compete economically with the United States, including Canada, France, Germany, Italy, Japan, Korea, and the United Kingdom, with noting of export promotion and export finance programs carried out by such countries that are not analogous to any programs carried out by the United States.

(ix) The effectiveness of current policies and programs affecting exports, including an assessment of Federal trade restrictions and State and Federal export promotion activities.

(x) The effectiveness of the Federal Government and Federally funded research and development centers in supporting and promoting technology commercialization and technology transfer.

(xi) Domestic and international intellectual property policies and practices.

(xii) Manufacturing capacity, logistics, and supply chain dynamics of major export sectors, including access to a skilled workforce, physical infrastructure, and broadband network infrastructure.

(xiii) Federal and State policies relating to science, technology, and education and other relevant Federal and State policies designed to promote commercial innovation, including immigration policies.

Selection Criteria

COMPETES directs the Secretary of Commerce to appoint a 15 member Innovation Advisory Board representing all major industry sectors for purposes of obtaining advice with respect to the conduct of the study described above. The majority of Board members must be comprised of representatives from private industry, including large and small firms, representing both advanced technology sectors and more traditional sectors that use technology. The Board may include economic or innovation policy experts, State and local government officials active in technology-based economic development, and representatives from higher education.

Board members will serve until the completion of the study, which, under the Act must be completed by January 4, 2012.

Members are required to meet to provide input to the study at two critical development points: Development of the extended outline and review of draft. In addition, members may be called upon to participate in events around the country designed to solicit additional information regarding specific issues related to the economic competitiveness and innovative capacity of the United States.

Board members are not considered Federal government employees by virtue of their service as a member of the Board and will receive no compensation from the Federal government for their participation in Board activities. Members participating in Board meetings and events will be not be compensated for travel or other expenses.

To be considered for membership, please provide the following:

1. Name, title, and personal resume of the individual requesting consideration;

2. A brief statement of why the person should be considered for membership on the Board. This statement should address the individual's relevant expertise in factors impacting the economic competitiveness and innovative capacity of the United States; and

3. A brief biography.

Appointments of members to the Board will be made by the Secretary of Commerce.

Dated: March 2, 2011.
John Connor,
Office of the Secretary.

[FR Doc. 2011-5133 Filed 3-7-11; 8:45 am]

BILLING CODE 3510-EA-P